ENVIRONMENTAL PROTECTION AGENCY

[EPA-HQ-OAR-2004-0077; FRL-9908-60-OAP]

Proposed Information Collection Request; Comment Request; Significant New Alternatives Policy (SNAP) Program (Renewal); EPA ICR No. 1596.08, OMB Control No. 2060-0226

AGENCY: Environmental Protection Agency (EPA).

ACTION: Notice.

SUMMARY: The Environmental Protection Agency (EPA) is planning to submit an information collection request (ICR), “Significant New Alternatives Policy (SNAP) Program (40 CFR part 82, subpart G) (Renewal)” (EPA ICR No. 1596.08, OMB Control No. 2060-0226) to the Office of Management and Budget (OMB) for review and approval in accordance with the Paperwork Reduction Act (44 U.S.C. 3501 et seq.). Before doing so, EPA is soliciting public comments on specific aspects of the proposed information collection as described below. This is a proposed extension of the ICR, which is currently approved through August 31, 2014. An Agency may not conduct or sponsor, and a person is not required to respond to, a collection of information unless it displays a currently valid OMB control number.

DATES: Comments must be submitted on or before May 23, 2014.

ADDRESSES: Submit your comments, referencing Docket ID No. EPA-HQ-OAR-2004-0077, online using www.regulations.gov (our preferred method), by email to a-and-r-docket@epa.gov or by mail to: EPA Docket Center, Environmental Protection Agency, Mail Code 28221T, 1200 Pennsylvania Ave. NW., Washington, DC 20460.

EPA's policy is that all comments received will be included in the public docket without change including any personal information provided, unless the comment includes profanity, threats, information claimed to be Confidential Business Information (CBI) or other information whose disclosure is restricted by statute.

FOR FURTHER INFORMATION CONTACT: Rebecca von dem Hagen, Environmental Protection Agency, Stratospheric Protection Division, Office of Atmospheric Programs, MC 6205J, Environmental Protection Agency, 1200 Pennsylvania Ave. NW., Washington, DC 20460; telephone number: (202) 343-9445; fax number: (202) 343-2362; email address: vondemhagen.rebecca@epa.gov.

SUPPLEMENTARY INFORMATION: Supporting documents which explain in detail the information that the EPA will be collecting are available in the public docket for this ICR. The docket can be viewed online at www.regulations.gov or in person at the EPA Docket Center, WJC West, Room 3334, 1301 Constitution Ave. NW., Washington, DC. The telephone number for the Docket Center is 202-566-1744. For additional information about EPA's public docket, visit http://www.epa.gov/dockets.

Pursuant to section 3506(c)(2)(A) of the Paperwork Reduction Act (PRA), EPA is soliciting comments and information to enable it to: (i) evaluate whether the proposed collection of information is necessary for the proper performance of the functions of the Agency, including whether the information will have practical utility; (ii) evaluate the accuracy of the Agency's estimate of the burden of the proposed collection of information, including the validity of the methodology and assumptions used; (iii) enhance the quality, utility, and clarity of the information to be collected; and (iv) minimize the burden of the collection of information on those who are to respond, including through the use of appropriate automated electronic, mechanical, or other technological collection techniques or other forms of information technology, e.g., permitting electronic submission of responses. EPA will consider the comments received and amend the ICR as appropriate. The final ICR package will then be submitted to OMB for review and approval. At that time, EPA will issue another Federal Register notice to announce the submission of the ICR to OMB and the opportunity to submit additional comments to OMB.

Abstract: Information collected under this rulemaking is necessary to implement the requirements of the Significant New Alternatives Policy (SNAP) program for evaluating and regulating substitutes for ozone-depleting chemicals being phased out under the stratospheric ozone protection provisions of the Clean Air Act (CAA) and globally under the Montreal Protocol on Substances that Deplete the Ozone Layer. Under CAA Section 612, EPA is authorized to identify and restrict the use of substitutes for class I and class II ozone-depleting substances where EPA determines other alternatives are available or potentially available that reduce overall risk to human health and the environment. The SNAP program, based on information collected from the manufacturers, formulators, and/or sellers of such substitutes, identifies acceptable substitutes. Responses to the collection of information are mandatory under Section 612 for anyone who sells or, in certain cases, uses substitutes for an ozone-depleting substance after April 18, 1994, the effective date of the final rule. Measures to protect confidentiality of information collected under the SNAP program are based on EPA's confidentiality regulations (40 CFR 2.201 et seq., or Subpart B). Submitters may designate all or portions of their forms or petitions as confidential. EPA requires the submitters to substantiate their claim of confidentiality. Under CAA Section 114(c), emissions information may not be claimed as confidential.

To develop the lists of acceptable and unacceptable substitutes, the Agency must assess and compare “overall risks to human health and the environment” posed by use of substitutes in the context of particular applications. EPA requires submission of information covering a wide range of health and environmental factors. These include intrinsic properties such as physical and chemical information, ozone depleting potential, global warming potential, toxicity, and flammability, and use-specific data such as substitute applications, process description, environmental release data, exposure data during use of a substitute, environmental fate and transport, and cost information. Once a completed submission has been received, a 90 day review period under the SNAP program will commence. Any substitute which is a new chemical must also be submitted to the Agency under the Premanufacture Notice program under the Toxic Substances Control Act (TSCA). Alternatives that will be used as sterilants must be filed jointly with EPA's Office of Pesticide Programs and with SNAP.

Form Numbers: 1265-07.

Respondents/affected entities: Manufacturers, importers, formulators and processors of substitutes for ozone-depleting substances.

Respondent's obligation to respond: Mandatory (40 CFR 82.176).

Estimated number of respondents: 221 (per year).

Frequency of response: Annual.

Total estimated burden: 6,683 hours (per year). Burden is defined at 5 CFR 1320.03(b).

Total estimated cost: $476,742, which includes $22,281 annualized capital or O&M costs.

Changes in Estimates: The Agency anticipates that the total estimated respondent burden will stay substantially the same, or decrease compared with the ICR currently approved by OMB.

The Agency anticipates a slight increase in the number of submissions to the SNAP program as a result of increased efforts to identify and adopt climate-friendly alternatives; however, the Agency also anticipates that the respondent burden for each individual submission will decrease. In recent years, many SNAP submissions have been received for widely-used and well understood chemicals being applied in new uses. One example of this is the submission of propane for us in household refrigerators. Additional work is necessary to ensure the safe use of these chemicals, but new toxicology studies are not required. The Agency expects that trend to continue. Recent listings for a number of substitutes have included use conditions, but these use conditions are consistent with requirements in industry standards and EPA expects such efforts (e.g., equipment testing and marking) to be standard industry practice. The Agency also anticipates a decrease in burden due to fewer respondents keeping records for alternatives that are acceptable subject to narrowed use limits.

Dated: March 12, 2014.
Sarah Dunham,
Director, Office of Atmospheric Programs.

[FR Doc. 2014-06369 Filed 3-21-14; 8:45 am]

BILLING CODE 6560-50-P